DEPARTMENT OF THE INTERIOR

National Park Service

Lake Management Plan/Final Environmental Impact Statement, Lake Mead National Recreation Area

AGENCY: National Park Service, Interior.

ACTION: Notice of availability.

SUMMARY: Pursuant to § 102(2)(C) of the National Environmental Policy Act of 1969 (Pub. L. 91-190, as amended), and the Council on Environmental Quality regulations (40 CFR part 1500-1508), the National Park Service, Department of the Interior, has prepared a Lake Management Plan and Final Environmental Impact Statement identifying and evaluating four alternatives for Lakes Mead and Mohave within Lake Mead National Recreation Area. The foreseeable potential for environmental impacts, and appropriate mitigation, are identified and assessed for each alternative. When approved, the plan is intended to guide management actions during the next 15-20 years.

DATES: Notice of an approved record of decision will be published in the Federal Register not sooner than 30 days after the final document has been distributed.

ADDRESSES: Copies of the Final Environmental Impact Statement/Lake Management Plan may be obtained by writing to Superintendent, Lake Mead National Recreation Area, 601 Nevada Highway, Boulder City, Nevada, 89005, or it may be viewed on the Internet at www.nps.gov/lame/planning.

FOR FURTHER INFORMATION CONTACT: Jim Holland, Management Assistant, Lake Mead National Recreation Area, 601 Nevada Highway, Boulder City, Nevada, 89005. e-mail: Jim_Holland@nps.gov. Phone: (702) 293-8986.

SUPPLEMENTARY INFORMATION: The Lake Mead NRA General Management Plan completed in 1986 establishes land based management zones and strategies for meeting those goals. Since that time, management issues have surfaced that have not been adequately addressed or resolved in the previous planning efforts. These issues relate to the increase in recreational use of the lakes, visitor conflicts and safety, potential impacts on park resources from water-related recreation and personal watercraft use. The overall objective of this lake management plan is to improve the management of Lakes Mead and Mohave, while providing for the long-term protection of park resources and allowing a range of recreational opportunities to support visitor needs.

Proposal: The preferred alternative has been modified in the Lake Management Plan/Final Environmental Impact Statement. There have been modifications made to the lake zoning and carrying capacity sections and the uses allowed in the primitive and semiprimitive zones. The temporal zoning in Black Canyon and the boating in proximity sections of the plan have also been revised.

The Lake Management Plan (Alternative C—Preferred) would allow for a slight increase in boating levels (5,055 boats at any one time). Facility expansion could occur at Cottonwood Cove on Lake Mohave and at Callville Bay, Echo Bay, Overton Beach and Temple Bar on Lake Mead. Additional public launch facilities could be constructed at Eldorado Canyon along Lake Mohave and at Stewarts Point on Lake Mead. A new road could be constructed to provide improved access to the north shore of the Boulder Basin on Lake Mead.

The park waters would be managed for a range of recreational settings from primitive to urban. Five percent of the park waters would be managed for primitive and semiprimitive settings, 39% for rural natural, 21% for urban natural and 35% as urban park. The primitive areas would be managed for non-motorized use but would allow electric trolling motors and semiprimitive areas would be managed for flat wake speed or with a horsepower restriction. Personal watercraft would be prohibited from operating in primitive and semiprimitive settings but authorized to operate in rural natural, urban natural and urban park settings.

Black Canyon would be managed for temporal recreational settings with two days per week being primitive (no motors) and five days per week between Labor Day and Memorial Day as semiprimitive. In Black Canyon where there is a constant river current, the semiprimitive zone flat wake restriction is replaced with an engine size restriction of 65-horsepower or less. Between Memorial Day and Labor Day, Black Canyon would be managed as rural natural allowing generally unrestricted boating access five days per week (due to the narrow canyon environment, houseboats, wake boarding and water skiing are prohibited).

In consultation with the States of Arizona and Nevada, a 200-foot flat wake zone would be established around beaches frequented by bathers, boats at the shoreline and persons in the water or at the shoreline. This is to establish a safe shoreline environment for shoreline users. The National Park Service will work with the respective states to develop uniform boating laws on Lakes Mead and Mohave and pursue mandatory boating education programs. Alcohol consumption while operating a boat would be prohibited.

Sanitation and public education requirements would be implemented and a clean-up program initiated. Glass beverage containers and styrofoam would be prohibited within the park. Water quality would be enhanced by requiring all boaters camping overnight to possess a marine head or portable toilet.

The Environmental Protection Agency regulation requiring the marine industry to improve the efficiency of engines by the year 2006 would be accelerated at Lake Mead NRA; requiring exclusive use of the new direct injection two-stroke engines, or equivalent, for motorized vessels starting 2012.

This alternative was identified at the environmentally preferred alternative as it best meets the requirement of section 101 of the National Environmental Policy Act. It would help provide a wide range of beneficial uses without degradation and would improve the safety of the recreation area. This alternative would preserve important aspects of our natural heritage while providing an environment that supports diversity and a variety of individual choices.

Alternatives: Alternative A maintains the status quo Lake Mead NRA, as described in chapter 3, Affected Environment. It provides a baseline from which to compare other alternatives, to evaluate the magnitude of proposed changes, and to measure the environmental effects of those changes. Under this alternative, management would continue to follow the 1986 General Management Plan zoning and capacities. By taking no new management actions including the promulgation of a personal watercraft rule, this alternative results in a permanent ban of personal watercraft use.

Alternative B would cap the number of boats at any one time at the current level (4,393 boats at any one time). No facilities would be expanded and no new launch ramps would be constructed. Ten percent of the park waters would be managed for primitive and semi-primitive settings. Personal watercraft would be authorized to operate in the rural natural, urban natural and urban park settings. A 100-foot flat wake zone would be established around the shoreline of both Lakes Mead and Mohave. Sanitation and litter initiatives would be improved but boats camping overnight would not be required to possess a porta-potty or marine toilet. All boat engines including personal watercraft would be required to meet the 2006 EPA manufacturer standards. Upon the approval of the plan, all engines not meeting these standards would be prohibited from operating on the waters of Lake Mead NRA.

Alternative D would provide for a greater increase in boating activity (5,800 boats at any one time). Facility expansion would be similar to Alternative C but allow larger increases in the marina slip and rental craft numbers. None of the park waters would be zoned for primitive or semiprimitve settings and there would be no restriction on personal watercraft use. A 300-foot flat wake zones would be established around the shoreline of both Lakes Mead and Mohave. Alcohol consumption while operating a boat would be prohibited and glass and Styrofoam containers would be prohibited. The National Park Service would require all Lake Mead and Mohave boaters to take a boater education course. Boaters camping overnight would be required to possess a porta-potty or marine head. There would be no restriction on the use on carburated two-stroke engines.

Planning Background: The Lake Management Plan and Draft Environmental Impact Statement (DEIS) were prepared by the National Park Service (NPS) pursuant to the National Environmental Policy Act. A scoping notice was published in the Federal Register on May 3, 1993. General issues and specific concerns already raised during previous relevant planning processes were provided to the public. Over a five-year period a series of public scoping and public informational meetings were held. Public scoping comments were received through this entire process. During this scoping period, the NPS facilitated over 100 discussions and briefings to interested members of the public, congressional delegations, Indian tribes, elected officials, other agencies, public service organizations, educational institutions, and other entities. Over 1,000 letters were received concerning the management of recreational use of the waters of Lake Mead NRA.

The Lake Management Plan/DEIS—formally announced for public review per notice of availability published in the Federal Register on April 19, 2002—was sent directly to all individuals, organizations, and agencies which had previously contacted the park; copies could also be obtained in the park, by mail, at public meetings, and were available for review at local and regional libraries (i.e., Las Vegas, Henderson, Boulder City, Laughlin, Bullhead City, Kingman, Overton, Mesquite and St. George). Additional copies were sent to public libraries in Southern California including Needles, San Bernardino, Victorville, Barstow, Irvine, Long Beach, Northridge and Los Angeles. Finally, the complete document was posted on the Lake Mead National Recreation Area Webpage (http://www.nps.gov/lame/planning). Written comments were accepted through June 26, 2002. Approximately 10,000 comments were received; of these 6,000 were electronic form letters and 1,000 were printed post cards; all were duly considered and adjustments were made to the draft plan. The issues focused on boating access, zoning, carrying capacity, shoreline wakeless zones and personal watercraft use. All written comments have been logged, archived and are available for public review in the park's research library.

In order to further foster public review and comment, six public meetings were held throughout the region—all were conducted in communities, cities and towns neighboring Lake Mead National Recreation Area. All meetings were conducted in an open house format (where participants could view displays and talk with park management and planning staff). At each of these meetings, written comment forms could be submitted or oral testimony was documented by a court reporter. Approximately 750 persons attended these meetings and the majority submitted written or oral comments. In addition, presentations were made before the Laughlin Town Board and the Searchlight Town Board.

Decision Process: Subsequent to release of the Lake Management Plan/Final Environmental Impact Statement, notice of an approved record of decision shall be published in the Federal Register not sooner than 30 days after the final document has been distributed. This is expected to occur by the end of December 2002. The official responsible for the decision is the Regional Director, Pacific West Region, National Park Service; the official responsible for implementation is the Superintendent, Lake Mead National Recreation Area.

Dated: November 25, 2002.
Jonathan B. Jarvis,
Regional Director, Pacific West Region.

[FR Doc. 03-118 Filed 1-9-03; 8:45 am]

BILLING CODE 4310-70-P